DEPARTMENT OF THE INTERIOR

National Park Service

[NPS-WASO-NAGPRA-NPS0039025; PPWOCRADN0-PCU00RP14.R50000]

Notice of Intended Disposition: U.S. Army Corps of Engineers, Tulsa District, Tulsa, OK

AGENCY: National Park Service, Interior.

ACTION: Notice.

SUMMARY: In accordance with the Native American Graves Protection and Repatriation Act (NAGPRA), the U.S. Army Corps of Engineers, Tulsa District (USACE Tulsa) intends to carry out the disposition of human remains removed from Federal or Tribal lands to the lineal descendants, Indian Tribe, or Native Hawaiian organization with priority for disposition in this notice.

DATES: Disposition of the human remains in this notice may occur on or after December 16, 2024. If no claim for disposition is received by November 14, 2025, the human remains in this notice will become unclaimed human remains.

ADDRESSES: Jacqueline Rodgers, U.S. Army Corps of Engineers, Tulsa District, 2488 East 81st Street, Tulsa, OK 74137, telephone (918) 669-4964, email jacqueline.rodgers@usace.army.mil.

SUPPLEMENTARY INFORMATION: This notice is published as part of the National Park Service's administrative responsibilities under NAGPRA. The determinations in this notice are the sole responsibility of the USACE Tulsa, and additional information on the human remains or cultural items in this notice, including the results of consultation, can be found in the related records. The National Park Service is not responsible for the identifications in this notice.

Abstract of Information Available

Based on the information available, human remains representing, at least, one individual have been reasonably identified. No associated funerary objects are present. On August 12, 2012, the remains were discovered along the shoreline of Canton Lake in Blaine County, Oklahoma and reported to local law enforcement. The remains were collected by law enforcement and remitted to the Medical Examiner, who determined the remains to be Native American and not of forensic interest. The individual was transferred to the Oklahoma Archaeological Survey (OAS) on August 28, 2013, and transferred from OAS to the Tulsa District Archaeological Repository on April 26, 2023. A precise location of the discovery was not recorded. Two nearby sites include 34BL27, a precontact site and 34BL110, a historic trash dump dating to the 1900s. The property at Canton Lake was allotted to the Cheyenne and Arapaho Tribes, Oklahoma before being transferred to USACE Tulsa.

Determinations

The USACE Tulsa has determined that:

• The human remains described in this notice represent the physical remains of one individual of Native American ancestry.

• The Cheyenne and Arapaho Tribes, Oklahoma have priority for disposition of the human remains described in this notice.

Claims for Disposition

Written claims for disposition of the human remains in this notice must be sent to the appropriate official identified in this notice under ADDRESSES. If no claim for disposition is received by November 14, 2025, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after December 16, 2024. If competing claims for disposition are received, the USACE Tulsa must determine the most appropriate claimant prior to disposition. Requests for joint disposition of the human remains are considered a single request and not competing requests. The USACE Tulsa is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: November 5, 2024.
Melanie O'Brien,
Manager, National NAGPRA Program.

[FR Doc. 2024-26461 Filed 11-13-24; 8:45 am]

BILLING CODE 4312-52-P